DEPARTMENT OF HEALTH AND HUMAN SERVICES

Office of the Secretary

Findings of Research Misconduct

AGENCY: Office of the Secretary, HHS.

ACTION: Notice.

SUMMARY: Notice is hereby given that the Office of Research Integrity (ORI) has taken final action in the following case:

Mahesh Visvanathan, Ph.D., Kansas University: Based on an inquiry conducted and written admission obtained by Kansas University (KU) and additional analysis conducted by ORI in its oversight review, ORI found that Dr. Mahesh Visvanathan, Research Assistant Professor in the K-INBRE ¹ Bioinformatics Core Facility, KU, engaged in research misconduct in research supported by U.S. Public Health Service (PHS) funds, specifically the INBRE program of the National Center for Research Resources (NCRR), National Institutes of Health (NIH), grant P20 RR016475.

¹ K-INBRE: The Kansas IDeA Network of Biomedical Research Excellence, which is a consortium of a number of schools and centers in Kansas.

Specifically, ORI found that Respondent engaged in research misconduct by intentionally and knowingly plagiarizing large amounts of text from other writers' published papers without attribution or citation in the following three (3) papers and one (1) abstract. The specific published documents as well as the relevant source documents are:

• Visvanathan, M., Adagarla, B., Lushington, G., Sittampalam, S., Proceedings of the 2009 International Joint Conference on Bioinformatics, Systems, Biology and Intelligent Computing, 2009, 494-497. Greater than half (50%) of the total text was obtained from (1) Yang, C.-S., Chuang, L.-Y., Ke, C.-H., Yang, C.-H., International Journal of Computer Science, International Association of Engineers, August 2008 35(3), (2) Goffard, N. and Weiller, G., Nucleic Acids Research, 2007, 35L:W176- W18l, and (3) Chuang, L.-Y., Yang, C.-H., Tu, C.-J., Yang, C.-H., Proceedings of the Joint Conference on Information Sciences, Atlantis Press, October 2006.

Retracted: Retracted administratively by IEEE on Jan 5, 2011 http://ieeexplore.ieee.org/xpl/freeabs_all.jsp?arnumber=5260432.

• Vijayan, A.; Skariah, B. E., Nair, B.; Lushington, G., Subramanian, S., Visvanathan, M., Proceedings of the IEEE International Conference on Bioinformatics and Biomedicine Workshop, 2009, BIBMW2009, 267-271. Approximately 15%of the text was plagiarized from Goffard, N. and Weiller, G., Nucleic Acids Research, 2007, 35L:W176-W18l.

Retracted: Retracted administratively by IEEE on Jan 5, 2011 http://www.computer.org/portal/web/csdl/doi/10.1109/BIBMW.2009.5332106.

• Visvanathan, M., Netzer, M., Seger, M., Adagarla, B. S., Baumgartner, C., Sittampalam, S., Lushington, G., International Journal of Computational Biology and Drug Design, 2009, 2,236-251. A complete paragraph of the text was plagiarized from Goffard, N. and Weiller, G., Nucleic Acids Research, 2007, 35L:W176- W18l.

• Adagarla, B., Lushington, G., Visvanathan, M., ISMB International Conference, January 2009; the entire abstract for this poster was obtained by plagiarizing text from Pihur, V., Datta, S., Datta S., Genomics, 2003, 92:400- 403.

Dr. Visvanathan has entered into a Voluntary Settlement Agreement (Agreement) and has voluntarily agreed for a period of two (2) years, beginning on December 20, 2011:

(1) To have any PHS-supported research supervised; ORI acknowledges that Respondent's research is currently being supervised by KU; Respondent shall ensure that a plan for supervision of his PHS-related duties is submitted to ORI for approval either within two weeks of this Agreement becoming final or prior to receiving or applying for PHS funds if such support is not current at the time this Agreement is completed; the supervision plan must be designed to ensure the scientific integrity of his research contribution; because of the ongoing review of Respondent's research by KU, ORI will only require a summary report on the first and second anniversary of the Agreement detailing how KU has ensured that Respondent's research and language in PHS grant applications and reports of PHS-supported research have been verified to be his own and accurately reported; Respondent agrees to maintain responsibility for compliance with the agreed upon supervision plan;

(2) That this annual summary, provided by any institution employing him, shall provide assurance that each application for PHS funds, or report, manuscript, or abstract involving PHS-supported research in which Respondent was involved, was based on actual experiments or was otherwise legitimately derived, that the data, procedures, and methodology were accurately reported in the application, report, manuscript, or abstract, and that the text in such submissions was his own or properly cited the source of copied language and ideas; and

(3) To exclude himself from serving in any advisory capacity to PHS including, but not limited to, service on any PHS advisory committee, board, and/or peer review committee, or as a consultant.

FOR FURTHER INFORMATION CONTACT: Director, Division of Investigative Oversight, Office of Research Integrity, 1101 Wootton Parkway, Suite 750, Rockville, MD 20852. (240) 453-8800.

John Dahlberg,
Director, Division of Investigative Oversight, Office of Research Integrity.

[FR Doc. 2011-33651 Filed 12-30-11; 8:45 am]

BILLING CODE 4150-31-P